NUCLEAR REGULATORY COMMISSION

[Docket No. 50-293]

Entergy Nuclear Generation Company, Entergy Nuclear Operations, Inc.; Notice of Partial Withdrawal of Application for Amendment to Facility Operating License

The U.S. Nuclear Regulatory Commission (NRC or Commission) has granted the request of Entergy Nuclear Operations, Inc. (the licensee), to withdraw a portion of its January 23, 2003, application for amendment to Facility Operating License No. DPR-35 for the Pilgrim Nuclear Power Station, located in Plymouth County, Massachusetts. The licensee's application was supplemented by letters dated February 24 and April 17, 2003.

The Commission had previously issued a Notice of Consideration of Issuance of Amendment published in the Federal Register on March 18, 2003 (68 FR 12952). However, by letter dated April 17, 2003, the licensee withdrew a portion of the original amendment request pertaining to the proposed change to note (1) of Technical Specification (TS) Table 3.2.B.

The Commission issued License Amendment No. 200 on April 22, 2003, which revised the TSs pertaining to requirements for the emergency core cooling system during shutdown conditions. The change modified the core spray and low pressure injection system's TS requirements to be applicable during the Run, Startup, and Hot Shutdown Modes. The change also modified the high drywell pressure instrumentation TSs to require the instrumentation to be Operable during the Run, Startup and Hot Shutdown Modes. Unnecessary TS requirements were removed based on the plant's operating Mode. Other changes were administrative in nature.

For further details with respect to this action, see the application for amendment dated January 23, 2003, as supplemented February 24, 2003; and the licensee's April 17, 2003, letter that withdrew a portion of the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS, or who encounter problems in accessing the documents located in ADAMS, should contact the NRC PDR reference staff by telephone at 1-800-397-4209, or 301-415-4737, or by email to pdr@nrc.gov.

Dated in Rockville, Maryland, this 19th day of May, 2003.
For the Nuclear Regulatory Commission.
Travis L. Tate,
Project Manager, Section 2, Project Directorate I, Division of Licensing Project Management, Office of Nuclear Reactor Regulation.

[FR Doc. 03-12972 Filed 5-22-03; 8:45 am]

BILLING CODE 7590-01-P